RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Availability for Work.

(2) Form(s) submitted: UI-38, UI-38s, ID-8k.

(3) OMB Number: 3220-0164.

(4) Expiration date of current OMB clearance: 7/31/2002.

(5) Type of request: Extension of a currently approved collection.

(6) Respondents: Individuals or households, non-profit institutions.

(7) Estimated annual number of respondents: 7,600.

(8) Total annual responses: 7,600.

(9) Total annual reporting hours: 1,085.

(10) Collection description: Under Section 1(k) of the Railroad Unemployment Insurance Act, unemployment benefits are not payable for any day in which the claimant is not available for work. The collection obtains information needed by the to determine whether a claimant is willing and ready to work.

FOR FURTHER INFORMATION CONTACT: Copies of the forms and supporting documents can be obtained from Chuck Mierzwa, the agency clearance officer (312-751-3363). Comments regarding the information collection should be addressed to Ronald J. Hodapp, Railroad Retirement Board, 844 North Rush Street, Chicago, Illinois, 60611-2092 and to the OMB Desk Officer for the RRB, at the Office of Management and Budget, Room 10230, New Executive Office Building, Washington, DC 20502.

Chuck Mierzwa,
Clearance Officer.

[FR Doc. 02-11765 Filed 5-9-02; 8:45 am]

BILLING CODE 7905-01-M